ENVIRONMENTAL PROTECTION AGENCY

[OPP-2004-0024; FRL-7344-9]

Utah State Plan for Certification of Applicators; Notice of Availability

AGENCY: Environmental Protection Agency (EPA).

ACTION: Notice of intent.

SUMMARY: The State of Utah has submitted to EPA several amendments to its State Plan for Certification of Pesticide Applicators. The proposed amendments add new subcategories as well as a Memorandum of Understanding regarding future implementation of an EPA federal pesticide certification program for the Navajo Indian Country. Notice is hereby given of the intention of the Regional Administrator, Region VIII, to approve the revised Plan for the Certification of Applicators. EPA is soliciting comments on the proposed amendments.

DATES: Comments, identified by docket identification (ID) number OPP-2004-0024 must be received on or before February 9, 2005.

ADDRESSES: Comments may be submitted electronically, by mail, or through hand delivery/courier. Follow the detailed instructions as provided in Unit I. of the SUPPLEMENTARY INFORMATION.

FOR FURTHER INFORMATION CONTACT: Barbara Barron, Pesticide Program, 8P-P3T, Environmental Protection Agency, Region VIII, 999 18th St., Suite 300, Denver, CO 80202-2466; telephone number: (303) 312-6617; e-mail address: barron.barbara@epa.gov; or

Jeanne Kasai, Field and External Affairs Division (7506C), Office of Pesticide Programs, Environmental Protection Agency, 1200 Pennsylvania Ave., NW., Washington, DC 20460-0001; telephone number: (703) 308-3240; fax number: (703) 308-2962; e-mail address: kasai.jeanne@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, it may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult either person listed under FOR FURTHER INFORMATION CONTACT.

B. How Can I Get Copies of this Document and Other Related Information?

1. Docket. EPA has established an official public docket for this action under docket identification (ID) number OPP-2004-0024. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

In addition to the sources listed in this unit, you may obtain copies of the amended Utah Certification Plan, other related documents, or additional information by contacting:

1. Barbara Barron, Pesticide Program, 8P-P3T, Environmental Protection Agency, Region VIII, 999 18th St., Suite 300, Denver, CO 80202-2466; telephone number: (303) 312-6617; e-mail address: barron.barbara@epa.gov.

2. Clark Burgess, Utah Department of Agriculture and Food (UDAF), P.O. Box 146500, Salt Lake City, UT 84114-6500; telephone number: (801) 538-7188; e-mail address: cburgess@utah.gov.

3. Jeanne Kasai, Field and External Affairs Division (7506C), Office of Pesticide Programs, Environmental Protection Agency, 1200 Pennsylvania Ave., NW., 20460-0001; telephone number: (703) 308-3240; e-mail address: kasai.jeanne@epa.gov.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPP-2004-0024. The system is an “anonymous access” system, which means EPA will not know your identity, e-mail address, or other contact information unless you provide it in the body of your comment.

ii. E-mail. Comments may be sent by e-mail to opp-docket@epa.gov, Attention: Docket ID Number OPP-2004-0024. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2004- 0024.

3. By hand delivery or courier. Deliver your comments to: Public Information and Records Integrity Branch (PIRIB), Office of Pesticide Programs (OPP), Environmental Protection Agency, Rm. 119, Crystal Mall #2, 1801 S. Bell St., Arlington, VA, Attention: Docket ID Number OPP-2004-0024. Such deliveries are only accepted during the docket's normal hours of operation as identified in Unit I.B.1.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified under FOR FURTHER INFORMATION CONTACT.

II. Background

FIFRA section 3 requires that pesticide applicators become certified to purchase, use, or supervise the use of restricted use pesticides. FIFRA section 11 allows EPA to designate the pesticide applicator certification program to states with EPA-approved plans. Federal regulations (40 CFR 171.7) describe what constitutes an EPA-approved plan and (40 CFR 171.8) requires that any substantial modification to a plan must receive prior approval from the Administrator. EPA is seeking public comment on amendments that are substantial modifications to the Utah plan.

This amendment will establish two new subcategories under the existing regulatory pest control category: Predator Control/1080 Livestock Protection Collar (LPC) and Predator Control/M-44 Device (M-44). In October 1983, EPA Assistant Administrator for Solid Waste and Emergency Response, Lee M. Thomas, decided to permit registration of 1080 LPC based on an Administrative Law Judge ruling. The decision requires applicators of 1080 LPC to receive specific training and to comply with recordkeeping and reporting requirements beyond that of applicators of restricted use pesticides. Therefore, a distinct certification process is required in any state wanting to certify applicators of 1080 LPC. The M-44 Device (M-44) is used by certified applicators to control predators of livestock and poultry. Similar to LPC 1080, M-44 has specific use restrictions that go beyond those required for most other categories of applicators of restricted use pesticides. The amendments to the Utah plan satisfy the specific training, recordkeeping, and reporting requirements for both LPC 1080 and M-44.

The Utah Department of Agriculture and Food (UDAF) will only be certifying employees of the U.S. Department of Agriculture, Wildlife Services (WS) and cooperative UDAF employees under the direct supervision of WS to use 1080 LPC and M-44 in performance of their official duties. WS is authorized by Congress to manage wildlife damage. UDAF certification of WS employees as pesticide applicators will allow them to purchase, use, and supervise the use of 1080 LPC and M-44 to carry out their responsibility in Utah.

UDAF also proposes the following new categories and subcategories for commercial applicators: Vertebrate Pest Control; Fumigation/Stored-Commodities Pest Control; Wood-Preservation Pest Control and Wood-Destroying Organisms Pest Control. Under the Aquatic Pest Control category for commercial applicators, Utah is proposing new subcategories for Surface Water and Sewer Root Control. The plan also includes a general provision for proper transportation, storage and disposal of pesticides and pesticide containers.

UDAF is also adding a Memorandum of Understanding (MOU) with EPA Region 9 (San Francisco, CA) in anticipation of an EPA Region 9 program to certify applicators of restricted use pesticides in Navajo Indian Country. EPA Region 9 expects to issue a certificate to applicators already possessing a valid certificate from UDAF. The MOU establishes the roles of UDAF and EPA Region 9 to implement the anticipated program.

EPA finds that the proposed amendment permitting certification of 1080 LPC applicators meets the criteria specified in the Final Decision of October 1983, that requires applicators of 1080 LPC to receive specific training, recordkeeping and reporting requirements beyond that of other restricted use pesticides. In addition, EPA has determined that the proposed M-44 sodium cyanide device amendment complies with specific registration requirements. EPA has reviewed the new categories and subcategories, the provisions for transportation, storage and disposal, and the MOU with EPA Region 9 to certify applicators of restricted use pesticides in Navajo Indian Country. Therefore, EPA announces its intentions to approve the amendment to the Utah State Certification Plan.

III. What Action is the Agency Taking?

EPA has reviewed the revised Utah Certification Plan and finds it in compliance with FIFRA and 40 CFR part 171. Therefore, EPA announces its intentions to approve the amendment to the Utah State Certification Plan permitting certification of 1080 LPC applicators and M-44 sodium cyanide device applicators. EPA is soliciting comments on the proposed amendments.

List of Subjects

Environmental protection, Education, Pesticides and pests.

Dated: October 21, 2004.
Robert E. Roberts,
Regional Administrator, Region VIII.

[FR Doc. 05-513 Filed 1-6-05; 2:31 pm]

BILLING CODE 6560-50-S